DEPARTMENT OF COMMERCE

National Oceanic and Atmospheric Administration

RIN 0648-XM61

Marine Mammals; File No. 1128-1922

AGENCY: National Marine Fisheries Service (NMFS), National Oceanic and Atmospheric Administration (NOAA), Commerce.

ACTION: Notice; issuance of permit.

SUMMARY: Notice is hereby given that Eduardo Mercado III, Ph.D., Department of Psychology, 350 Park Hall, University at Buffalo, SUNY, Buffalo, New York, 14260, has been issued a permit to conduct research on humpback whales (Megaptera novaeangliae).

ADDRESSES: The permit and related documents are available for review upon written request or by appointment in the following offices:

Permits, Conservation and Education Division, Office of Protected Resources, NMFS, 1315 East-West Highway, Room 13705, Silver Spring, MD 20910; phone (301)713-2289; fax (301)427-2521 and

Southeast Region, NMFS, 263 13th Avenue South, Saint Petersburg, Florida 33701; phone (727)824-5312; fax (727)824-5309.

FOR FURTHER INFORMATION CONTACT: Amy Hapeman or Carrie Hubard, (301)713-2289.

SUPPLEMENTARY INFORMATION: On August 21, 2007, notice was published in the Federal Register (72 FR 46610) that a request for a scientific research permit to take humpback whales, had been submitted by the above-named individual. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226).

Dr. Mercado is authorized a five-year scientific research permit to conduct acoustic playback sessions in the presence of humpback whales and approach animals to record whale songs in the coastal waters of Puerto Rico. The purpose of this research is to develop methods for testing the hearing and auditory perceptual capabilities of humpback whales in order to better predict when anthropogenic sounds may interfere with social behaviors, particularly mating and group feeding. Up to 200 humpback whales may be harassed by playback experiments (active acoustics) three times per year and up to 30 additional humpbacks may be harassed by close approach during vessel surveys for passive acoustic recordings annually. In addition, up to 5 humpback whales, 45 Stenellid dolphins (Stenella spp.), 45 common dolphins (Delphinus delphis), 45 bottlenose dolphins (Tursiops truncatus), and 5 Cuvier's beaked whales (Ziphius cavirostris) may be incidentally harassed up to three times annually during playback sessions.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) was applied for in good faith; (2) will not operate to the disadvantage of such endangered species; and (3) is consistent with the purposes and policies set forth in section 2 of the ESA.

Dated: January 2, 2009.
P. Michael Payne,
Chief, Permits, Conservation and Education Division, Office of Protected Resources, National Marine Fisheries Service.

[FR Doc. E9-234 Filed 1-8-09; 8:45 am]

BILLING CODE 3510-22-S